DEPARTMENT OF JUSTICE

[OMB Number 1110-0039]

Agency Information Collection Activities; Proposed eCollection; eComments Requested

AGENCY: Criminal Justice Information Services Division, Federal Bureau of Investigation (FBI), Department of Justice.

ACTION: 30-Day notice.

SUMMARY: Department of Justice (DOJ), Federal Bureau of Investigation (FBI), Training Division's Curriculum Management Section (CMS) will be submitting the following information collection request to the Office of Management and Budget (OMB) for review and approval in accordance with the Paperwork Reduction Act of 1995. This proposed information collection was previously published allowing for a 60 day comment period.

DATES: Comments are encouraged and will be accepted for an additional 30 days until March 28, 2018.

FOR FURTHER INFORMATION CONTACT: Written comments and/or suggestions regarding the items contained in this notice, especially the estimated public burden and associated response time, should be directed to U.S. Department of Justice, Federal Bureau of Investigation. Contact Kimberly A. Webber, Global Operations Section, CJIS Division Intelligence Group, Federal Bureau of Investigation, Criminal Justice Information Services Division (CJIS), Biometric Technology Center, 1000 Custer Hollow Road, Clarksburg, West Virginia 26306; telephone (304) 625-4164; facsimile (304) 625-2198. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: Federal Bureau of Investigation Bioterrorism Preparedness Act: Entity/Individual Information.

(3) Agency form number, if any, and the applicable component of the Department sponsoring the collection: Agency form number: FD-961 Sponsoring component: Criminal Justice Information Services Division, Federal Bureau of Investigation (FBI), Department of Justice (DOJ).

(4) Affected public who will be asked or required to respond, as well as a brief abstract: Primary: City, county, state, federal, individuals, business or other for profit, and not-for-profit institute. This collection is needed to receive names and other identifying information submitted by individuals requesting access to specific agents or toxins, and consult with appropriate official of the Department of Health and Human Services and the Department of Agriculture as to whether certain individuals specified in the provisions should be denied access to or granted limited access to specific agents.

(5) An estimate of the total number of respondents and the amount of time estimated for an average respondent to respond/reply: It is estimated that approximately 4,635 (FY 2015) respondents at 1 hour and 30 minutes for the FD-961 form.

(6) An estimate of the total public burden (in hours) associated with the collection: Given that approximately 6,953 hours, annual burden associated with this information collection.

If additional information is required contact: Melody Braswell, Department Clearance Officer, United States Department of Justice, Justice Management Division, Policy and Planning Staff, Two Constitution Square, 145 N Street NE, Suite 3E.405B, Washington, DC 20530.

Dated: February 21, 2018.
Melody Braswell,
Department Clearance Officer, PRA, U.S. Department of Justice.

[FR Doc. 2018-03806 Filed 2-23-18; 8:45 am]

BILLING CODE 4410-02-P